DEPARTMENT OF COMMERCE

International Trade Administration

[A-552-802]

Certain Frozen Warmwater Shrimp From the Socialist Republic of Vietnam: Final Results of and Final Rescission of Review, in Part, of Antidumping Duty Administrative Review; 2023-2024

AGENCY: Enforcement and Compliance, International Trade Administration, Department of Commerce.

SUMMARY: The U.S. Department of Commerce (Commerce) determines that producers/exported subject to this administrative review made sales of certain frozen warmwater shrimp (shrimp) from the Socialist Republic of Vietnam (Vietnam) at prices below normal value (NV) during the period of review (POR), February 1, 2023, through January 31, 2024. Additionally, Commerce determines that 24 exporters are eligible for separate rates, and is rescinding the review with respect to Trang Khanh Seafood Co., Ltd.

DATES: Applicable February 23, 2026.

FOR FURTHER INFORMATION CONTACT: Jonathan Schueler or Matthew Lipka, AD/CVD Operations, Office VIII, Enforcement and Compliance, International Trade Administration, U.S. Department of Commerce, 1401 Constitution Avenue NW, Washington, DC 20230; telephone: (202) 482-9175 or (202) 482-7976, respectively.

SUPPLEMENTARY INFORMATION:

Background

On June 11, 2025, Commerce published the Preliminary Results of this administrative review.¹ On July 11, 2025, Commerce cancelled its planned verification of Soc Trang Seafood Joint Stock Company (STAPIMEX).² On July 25, 2025, Commerce issued its Post-Preliminary Analysis to make certain changes to its differential pricing analysis in this administrative review, and invited interested parties to comment.³

¹ See Certain Frozen Warmwater Shrimp from the Socialist Republic of Vietnam: Preliminary Results, Notice of Intent To Rescind, in part, and Final Rescission, in Part, of Antidumping Duty Administrative Review; 2023-2024, 90 FR 24583 (June 11, 2025) (Preliminary Results), and accompanying Preliminary Decision Memorandum.

² See Commerce's Letter, “Denial of Request to Re-submit Section C Questionnaire Response a Soc Trang Seafood Join Stock Company Verification,” dated July 11, 2025.

³ See Memorandum, “Post-Preliminary Analysis,” dated July 25, 2025 (Post-Preliminary Analysis).

On August 26, 2025, Commerce extended the deadline to issue the final results by 60 days.⁴ Further, due to the lapse in appropriations and Federal Government shutdown, on November 14, 2025, Commerce tolled all deadlines in administrative proceedings by 47 days.⁵ Additionally, due to a backlog of documents that were electronically filed via Enforcement and Compliance's Antidumping and Countervailing Duty Centralized Electronic Service System (ACCESS) during the Federal Government shutdown, on November 24, 2025, Commerce tolled all deadlines in administrative proceedings by an additional 21 days.⁶ Accordingly, the deadline for these final results is now February 17, 2026.⁷

⁴ See Memorandum, “Extension of Deadline for Final Results of Antidumping Duty Administrative Review,” dated August 26, 2025.

⁵ See Memorandum, “Deadlines Affected by the Shutdown of the Federal Government,” dated November 14, 2025.

⁶ See Memorandum, “Tolling of all Case Deadlines,” dated November 24, 2025.

⁷ See Notice of Clarification: Application of “Next Business Day” Rule for Administrative Determination Deadlines Pursuant to the Tariff Act of 1930, As Amended, 70 FR 24533 (May 10, 2005).

For the events subsequent to the Preliminary Results, see the Issues and Decision Memorandum.⁸ The Issues and Decision Memorandum is a public document and is on file electronically via ACCESS. ACCESS is available to registered users at https://access.trade.gov. In addition, a complete version of the Issues and Decision Memorandum can be accessed directly at https://access.trade.gov/public/FRNoticesListLayout.aspx.

⁸ See Memorandum, “Issues and Decision Memorandum for the Final Results of Antidumping Duty Administrative Review of Certain Frozen Warmwater Shrimp from the Socialist Republic of Vietnam; 2023-2024,” dated concurrently with, and hereby adopted by, this notice (Issues and Decision Memorandum).

Commerce is conducting this administrative review in accordance with section 751 of the Tariff Act of 1930, as amended (the Act).

Scope of the Order ⁹

⁹ See Notice of Amended Final Determination of Sales at Less Than Fair Value and Antidumping Duty Order: Certain Frozen Warmwater Shrimp from the Socialist Republic of Vietnam, 70 FR 5152 (February 1, 2005) (Order).

The merchandise subject to the Order is certain frozen warmwater shrimp from Vietnam. For a full description of the scope of the Order, see the Issues and Decision Memorandum.¹⁰

¹⁰ See Memorandum, “Issues and Decision Memorandum for the Final Results of the 2023-2024 Antidumping Duty Administrative Review: Certain Frozen Warmwater Shrimp from the Socialist Republic of Vietnam,” dated concurrently with, and hereby adopted by, this notice (Issues and Decision Memorandum); see also Preliminary Results PDM at 3-4.

Analysis of Comments Received

All issues raised by interested parties in the case and rebuttal briefs are addressed in the Issues and Decision Memorandum. A list of the issues addressed in the Issues and Decision Memorandum is provided in Appendix I to this notice.

Changes Since the Preliminary Results and Post-Preliminary Analysis

Based on a review of the record and our analysis of comments received from interested parties, and for the reasons explained in the Issues and Decision Memorandum, we made certain changes to the weighted-average dumping margins applied to the two mandatory respondents, STAPIMEX and Thong Thuan Company Limited (Thong Thuan)/Thong Thuan Cam Ranh Seafood Joint Stock Company (TTCR) (collectively, Thong Thuan/TTCR),¹¹ and the weighted-average dumping margin applicable to the non-examined companies that are eligible for a separate rate. For reasons explained in the Issues and Decision Memorandum, Commerce applied facts available with adverse inference (AFA), in accordance with sections 776(a) and (b) of the Act to STAPIMEX and Thong Thuan/TTCR.

¹¹ In the Preliminary Results, Commerce preliminarily determined that Thong Thuan and TTCR are affiliated within the meaning of section 771(33) of the Act and compromise a single entity pursuant to 19 CFR 351.401(f). We find no evidence to change our decision so continue to treat these companies as a single entity pursuant to 19 CFR 351.401(f) for these final results.

Use of Adverse Facts Available

Because STAPIMEX's and Thong Thuan/TTCR's questionnaire responses could not be verified, we are unable to use their respective data to calculate an accurate weighted-average dumping margin for either company. Therefore, as stated above, for these final results we are relying on AFA, pursuant to sections 776(a) and (b) of the Act, to assign a weighted-average dumping margin to each mandatory respondent, STAPIMEX and Thong Thuan/TTCR because these companies failed to cooperate by not acting to the best of their abilities to comply with our requests for information. In applying AFA, we assigned STAPIMEX and Thong Thuan/TTCR a weighted-average dumping margin of 25.76 percent, a rate which previously has been applied as AFA in the Final Determination for the Vietnam-wide entity.¹²

¹² See Final Determination of Sales at Less Than Fair Value: Certain Frozen and Canned Warmwater Shrimp from the Socialist Republic of Vietnam, 69 FR 71005 (December 8, 2004) (Final Determination), and accompanying IDM at 21-22.

Final Rescission of Review, in Part

Pursuant to 19 CFR 351.213(d)(3), it is Commerce's practice to rescind an administrative review of an AD order when there are no entries of subject merchandise during the POR for which liquidation is suspended.¹³ Normally, upon completion of an administrative review, the suspended entries are liquidated at the AD assessment rate calculated for the review period.¹⁴ Therefore, for an administrative review to be conducted, there must be a suspended entry that Commerce can instruct U.S. Customs and Border Protection (CBP) to liquidate and assess antidumping duties at an AD assessment rate calculated for the review period.¹⁵

¹³ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

¹⁴ See 19 CFR 351.212(b)(1).

¹⁵ See 19 CFR 351.213(d)(3).

In the Preliminary Results, we notified all interested parties of our intent to rescind this review with respect to Trang Khanh Seafood Co., Ltd. (Trang Khanh) for the final results.¹⁶ We invited parties to comment, and received comments from the Shrimp Committee of Vietnam Association of Seafood Exporters and Producers (VASEP).¹⁷ After an analysis of record evidence and the comments received, we continue to find Trang Khanh had no suspended entries during the POR, and accordingly we are rescinding this administrative review with respect to Trang Khanh, in accordance with 19 CFR 351.213(d)(3).

¹⁶ See Preliminary Results PDM at 4-6.

¹⁷ See VASEP's Letter, “Case Brief,” dated November 17, 2025.

Separate Rates

Commerce received comments from VASEP and the American Shrimp Processors Association (ASPA) on Commerce's preliminary separate rate determinations.¹⁸ Commerce addressed these comments in the Issues and Decision Memorandum and continues to find that the 24 companies listed in Appendix II are eligible for a separate rate, including the two mandatory respondents, STAPIMEX and Thong Thuan/TTCR. While Commerce is relying on AFA to determine the weighted-average dumping margins for STAPIMEX and Thong Thuan/TTCR, it did not find deficiencies with either respondents' Section A questionnaire responses. Therefore, both STAPIMEX and Thong Thuan/TTCR continue to be eligible for a separate rate.

¹⁸ Id.; see also ASPA's Letter, “American Shrimp Processors Association's Rebuttal Brief,” dated December 9, 2025.

As the separate rate assigned to the qualifying companies, except for the mandatory respondents, we have relied on the weighted-average dumping margin assigned to non-examined separate rate companies based on the most recent, non-zero rate calculated in a completed prior segment for non-examined separate rate companies (i.e., 4.58 percent ad valorem).¹⁹ See the Issues and Decision Memorandum for a further discussion.

¹⁹ See Certain Frozen Warmwater Shrimp from the Socialist Republic of Vietnam: Final Results of Antidumping Duty Administrative Review, 2016-2017, 83 FR 46704 (September 14, 2018).

Vietnam-Wide Entity

In our Preliminary Results, we found that 146 companies failed to establish their eligibility for a separate rate and are considered to be part of the Vietnam-wide entity.²⁰ Because no party requested a review of the Vietnam-wide entity, and Commerce no longer considers the Vietnam-wide entity as an exporter conditionally subject to administrative reviews,²¹ we did not conduct a review of the Vietnam-wide entity. Thus, the weighted-average dumping margin for the Vietnam-wide entity (i.e., 25.76 percent), is not subject to change as a result of this review.

²⁰ See Preliminary Results.

²¹ See Antidumping Proceedings: Announcement of Change in Department Practice for Respondent Selection in Antidumping Duty Proceedings and Conditional Review of the Nonmarket Economy Entity in NME Antidumping Duty Proceedings, 78 FR 65963, 65969-70 (November 4, 2013).

Final Results of Administrative Review

Commerce determines that the following estimated weighted-average dumping margins exist for the period February 1, 2023, through January 31, 2024:

²² See Frozen Warmwater Shrimp from the Socialist Republic of Vietnam: Final Affirmative Countervailing Duty Determination, 89 FR 85500 (October 28, 2024); see also Issues and Decision Memorandum at Comment 7.

²³ Excluding the two mandatory respondents. See Appendix II.

Exporter | Weighted-average dumping margin (percent) | Cash deposit rate (adjusted for subsidy offsets) (percent) ²²
Separate Rate Companies ²³ | 4.58 | 4.28

Disclosure

Normally, Commerce discloses to interested parties the calculations performed in connection with a final results within five days of any public announcement or, if there is no public announcement, within five days of the date of publication of the notice of final results in the Federal Register, in accordance with 19 CFR 351.224(b). However, because Commerce applied AFA to the individually examined companies Thong Thuan/TTCR and STAPIMEX, in this administrative review, in accordance with section 776 of the Act, and the applied AFA rate is based on a previously applied weighted-average dumping margin, there are no calculations to disclose.

Assessment Rates

Pursuant to section 751(a)(2)(C) of the Act and 19 CFR 351.212(b)(1), Commerce has determined, and U.S Customs and Border Protection (CBP) shall assess, antidumping duties on all appropriate entries of subject merchandise in accordance with the final results of this review.

For the 24 companies, including the mandatory respondents, listed in Appendix II to this notice, which have been assigned a weighted-average dumping margin that is not zero or de minimis (i.e., less than 0.50 percent), Commerce will instruct, and CBP shall assess, antidumping duties on all appropriate entries of subject merchandise at a rate equal to the weighted-average dumping margin assigned to it. Mandatory respondents Soc Trang Seafood Joint Stock Company and Thong Thuan Company Limited; Thong Thuan Cam Ranh Seafood Joint Stock Company ²⁴ have been assigned a weighted-average dumping margin of 25.76 percent. The other 22 companies receiving a separate rate have been assigned a weighted-average dumping margin of 4.58 percent. In addition, for Trang Khanh, for which we are rescinding this administrative review, Commerce will instruct CBP to assess any suspended entries of subject merchandise associated with Trang Khanh at a rate equal to the cash deposit rate of estimated antidumping duties required at the time of entry, or withdrawal from warehouse, for consumption in accordance with 19 CFR 351.212(c)(1)(i). With regard to the 146 companies identified in Appendix III to this notice as part of the Vietnam-wide entity, we will instruct CBP to apply an ad valorem assessment rate of 25.76 percent to all POR entries of subject merchandise which were exported by those companies.

²⁴ Commerce has determined that these two entities are affiliated within the meaning of section 771(33) of the Act and comprise a single entity pursuant to 19 CFR 351.401(f).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date, as provided by section 751(a)(2)(C) of the Act: (1) for the 22 companies, excluding the two mandatory respondents, granted separate rate status in this administrative review, the cash deposit rate will be equal to the weighted-average dumping margin established in the final results of this review and listed in the table above; (2) for the two mandatory respondents, the cash deposit rate will be equal to the weighted-average dumping margin established in the final results of this review, i.e., 25.46 percent; ²⁵ (3) for previously-examined Vietnamese and non-Vietnamese exporters not listed in Appendix II that received a separate rate in a prior completed segment of this proceeding, the cash deposit rate will continue to be the existing exporter-specific cash deposit rate; (4) for all non-Vietnamese exporters of subject merchandise which have not received their own separate rate, the cash deposit rate will be the rate applicable to the Vietnamese exporter that supplied that non-Vietnamese exporter; and (5) for all Vietnamese exporters of subject merchandise that have not been found to be entitled to a separate rate, the cash deposit rate will be the rate for the Vietnam-wide entity, (i.e., 25.76 percent). These cash deposit requirements, when imposed, shall remain in effect until further notice.

²⁵ Cash deposit rate adjusted for subsidy offsets.

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order (APO)

This notice also serves as a reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act.

Dated: February 17, 2026.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Rescission of Administrative Review, in Part

V. Adjustment to Cash Deposit Rate for Export Subsidies

VI. Separate Rates

VII. Changes Since the Preliminary Results and Post-Preliminary Analysis

VIII. Application of Facts Available and Use of Adverse Inference

IX. Discussion of the Issues

Comment 1: Whether Commerce Should Apply AFA to Thong Thuan/TTCR

Comment 2: Whether Commerce Should Make Certain Corrections to the Margin Calculation for Thong Thuan/TTCR

Comment 3: Whether to Apply Partial AFA to STAPIMEX

Comment 4: Whether to Apply Total AFA to STAPIMEX

Comment 5: Whether Commerce Should Make Certain Corrections to the Margin Calculation for STAPIMEX

Comment 6: Whether to Use the Expected Method to Determine the Weighted-Average Dumping Margin for the Non-Examined Separate Rate Companies

Comment 7: Whether to Apply a CVD Offset

Comment 8: Whether to Implement Certain Separate Rate Requests from Vietnamese Exporters

X. Recommendation

Appendix II

Companies Eligible for Separate Rate Status ²⁶

²⁶ We have included in this list certain name variations that are included in the SRA/SRC, and, thus are included in the separate rate, but were not listed in the Initiation Notice.

1. Camau Seafood Processing and Service Joint-Stock Corporation; CASES; Camau Seafood Processing and Service Joint Stock Corporation

2. C.P. Vietnam Corporation

3. Cantho Import Export Fishery Limited Company; CAFISH

4. Camimex Group Joint Stock Company; Camimex Group

5. Cuulong Seaproducts Company; Cuulong Seapro

6. Sao Ta Foods Joint Stock Company; FIMEX VN/Sao Ta Seafood Factory ²⁷

²⁷ As noted in the Initiation Notice, Commerce has previously determined that these two entities are affiliated within the meaning of section 771(33) of the Act and comprise a single entity pursuant to 19 CFR 351.401(f). See Certain Frozen Warmwater Shrimp from the Socialist Republic of Vietnam: Final Results of Antidumping Duty Administrative Review, 2017-2018, 84 FR 44859 (August 27, 2019).

7. Frozen Seafoods Factory No. 32

8. Hai Viet Corporation; HAVICO

9. Kim Anh Company Limited; Kim Anh Co., Ltd.

10. Minh Hai Jostoco; Minh Hai Export Frozen Seafood Processing Joint-Stock Company

11. Ngoc Tri Seafood Joint Stock Company; Ngoc Tri Seafood Company

12. Nha Trang Seafoods F89 Joint Stock Company; Nha Trang Seaproduct Company; NT Seafoods Corporation; NTSF Seafoods Joint Stock Company; Nha Trang Seafoods Group ²⁸

²⁸ As noted in the Initiation Notice, Commerce has previously determined that these entities are affiliated within the meaning of section 771(33) of the Act and comprise a single entity pursuant to 19 CFR 351.401(f). See Certain Frozen Warmwater Shrimp from the Socialist Republic of Vietnam: Preliminary Results, Partial Rescission, and Request for Revocation, In Part, of the Fifth Administrative Review, 76 FR 12054, 12056 (March 4, 2011), unchanged in Certain Frozen Warmwater Shrimp from the Socialist Republic of Vietnam: Final Results and Final Partial Rescission of Antidumping Duty Administrative Review, 76 FR 56158 (September 12, 2011).

13. Q N L Company Limited; QNL Company Limited

14. Minh Hai Joint-Stock Seafoods Processing Company; Sea Minh Hai; Seaprodex Minh Hai

15. Seaprimexco Vietnam; Seaprimexco

16. Soc Trang Seafood Joint Stock Company; STAPIMEX ²⁹

²⁹ Assigned rate based on AFA (i.e., 25.76 percent).

17. Tai Kim Anh Seafood Joint Stock Corporation; TAIKA Seafood Corporation

18. Thong Thuan Company Limited; Thong Thuan Cam Ranh Seafood Joint Stock Company; ³⁰

³⁰ Assigned rate based on AFA (i.e., 25.76 percent).

19. Thuan Phuoc Seafoods and Trading Corporation; Thuan Phuoc Corp

20. Trong Nhan Seafood Co., Ltd.; Trong Nhan Seafood

21. UTXI Aquatic Products Processing Corporation; UTXICO

22. Viet I-Mei Frozen Foods Co., Ltd.; Viet I-Mei

23. Vietnam Clean Seafood Corporation; Viet Nam Clean Seafood Corporation; Vina Cleanfood

24. Vietnam Fish One Co., Ltd.; Viet Hai Seafood Co., Ltd

Appendix III

Companies Under Review Determined To Be Part of the Vietnam-Wide Entity ³¹

³¹ See Memorandum, “Names Not Granted Separate Rate Status at the Preliminary Determination,” dated June 16, 2025.

1. AFoods

2. Amanda Seafood Co., Ltd.

3. An Nguyen Investment Production and Group

4. Anh Khoa Seafood

5. Anh Minh Quan Corp.

6. APT Co.

7. Au Vung One Seafood

8. Bac Lieu Fis

9. Baclieufis

10. Bentre Forestry and Aquaproduct Import Export Joint Stock Company

11. Bentre Seafood Joint Stock Company

12. Beseaco

13. Bien Dong Seafood Co., Ltd.

14. Binh Dong Fisheries Joint Stock Company

15. Binh Thuan Import-Export Joint Stock Company

16. Blue Bay Seafood Co., Ltd.

17. Ca Mau Seafood Processing and Service Joint Stock Corporation

18. Ca Mau Frozen Seafood Processing Import Export Corporation

19. Ca Mau Seafood Joint Stock Company

20. Cadovimex

21. Cadovimex II Seafood Import Export and Processing Joint Stock Company

22. Cadovimex Seafood Import-Export and Processing Joint Stock Company

23. Camimex

24. Camimex Foods Joint Stock Company

25. Caseamex

26. CJ Cau Tre Foods Joint Stock Company

27. Coastal Fisheries Development Corporation

28. COFIDEC

29. Cuu Long Seapro

30. Dai Phat Tien Seafood Co., Ltd.

31. Danang Seafood Import Export

32. Danang Seaproducts Import-Export Corporation

33. Dong Hai Seafood Limited Company

34. Dong Phuong Seafood Co., Ltd.

35. Duc Cuong Seafood Trading Co., Ltd.

36. Duong Hung Seafood

37. FAQUIMEX

38. FFC

39. Fine Foods Company

40. Gallant Dachan Seafood Co., Ltd.

41. Gallant Ocean (Vietnam) Co. Ltd.

42. Gallant Ocean (Vietnam) Joint Stock Company

43. GN Foods Joint Stock Company

44. Go Dang Joint Stock Company

45. GODACO Seafood

46. Green Farms Seafood Joint Stock Company

47. HaiViet Corporation

48. Hanh An Trading Service Co., Ltd.

49. Hoang Anh Fisheries Trading Company Limited

50. Hoang Phong Seafood Co.

51. Hong Ngoc Seafood Co., Ltd.

52. Hung Bang Company Limited

53. Hung Dong Investment Service Trading Co., Ltd.

54. HungHau Agricultural Joint Stock Company

55. INCOMFISH

56. Investment Commerce Fisheries Corporation

57. JK Fish Co., Ltd.

58. Khang An Foods Joint Stock Company

59. Khanh Hoa Seafoods Exporting Company

60. KHASPEXCO

61. Long Toan Frozen Aquatic Products Joint Stock Company

62. MC Seafood

63. Minh Bach Seafood Company Limited

64. Minh Cuong Seafood Import Export Processing Joint Stock Company

65. Minh Hai Joint Stock Seafoods

66. Minh Phat Seafood Company Limited ³²

³² Shrimp produced and exported by Minh Phat Seafood Company Limited were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this administrative review covers this exporter only with respect to subject merchandise produced by another entity.

67. Minh Phu Hau Giang Seafood ³³

³³ Shrimp produced and exported by Minh Phu Hau Giang Seafood were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this administrative review covers this exporter only with respect to subject merchandise produced by another entity.

68. Minh Phu Seafood Corporation ³⁴

³⁴ Shrimp produced and exported by Minh Phu Seafood Corporation were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this administrative review covers this exporter only with respect to subject merchandise produced by another entity.

69. Minh Qui Seafood Co., Ltd.³⁵

³⁵ Shrimp produced and exported by Minh Qui Seafood Co., Ltd. were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this administrative review covers this exporter only with respect to subject merchandise produced by another entity.

70. My Son Seafoods Factory

71. Nam Hai Foodstuff and Export Company Ltd.

72. Nam Phuong Foods Import Export Company Limited

73. Nam Viet Seafood Import Export Joint Stock Company

74. Namcan Seaproducts Import Export Joint Stock Company

75. NAVIMEXCO

76. New Generation Seafood Joint Stock Company

77. New Wind Seafood Company Limited

78. Ngoc Tri

79. Ngoc Trinh Bac Lieu Seafood Co., Ltd.

80. Nguyen Chi Aquatic Product Trading Company Limited

81. Nhat Duc Co., Ltd.

82. Nigico Co., Ltd.

83. Phuong Nam Foodstuff Corp.

84. QAIMEXCO

85. QNL One Member Company

86. Quang Minh Seafood Co., Ltd

87. Quoc Ai Seafood Processing Import Export Co., Ltd.

88. Quoc Toan PTE

89. Quoc Toan Seafood Processing Factory

90. Quy Nhon Frozen Seafoods Joint Stock Company

91. Safe And Fresh Aquatic Products Joint Stock Company

92. Saigon Aquatic Product Trading Joint Stock Company

93. Saigon Food Joint Stock Company

94. Saota Seafood Factory

95. SEADANANG

96. Seafood Direct 2012 One Member Limited

97. Seafood Joint Stock Company No. 4

98. Seafood Travel Construction Import Export Joint Stock Company

99. SeafoodDirect2012 One Member Limited Liability Company

100. Seanamico

101. Seaprodex Min Hai

102. Seaprodex Minh Hai Factory No. 69

103. Seaprodex Minh Hai Workshop 1

104. Seaprodex Minh Hai-Factory No. 78

105. Seaproducts Joint Stock Company

106. Seaproducts Joint Stock Company No. 5

107. Seaspimex Vietnam

108. Simmy Seafood Company Limited

109. South Ha Tinh Seaproducts Import-Export Joint Stock Company

110. South Vina Shrimp

111. Southern Shrimp Joint Stock Company

112. Special Aquatic Products Joint Stock Company

113. SVS

114. T & P Seafood Company Limited

115. T&T

116. T&T Cam Ranh

117. Tai Nguyen Seafood Co., Ltd.

118. Tan Phong Phu Seafood Co., Ltd.

119. Tan Thanh Loi Frozen Food Co., Ltd.

120. Tay Do Seafood Enterprise

121. THADIMEXCO

122. Thai Hoa Foods Joint Stock Company

123. Thai Minh Long Seafood Company Limited

124. Thaimex

125. Thanh Doan Fisheries Import-Export Joint Stock Company

126. Thanh Doan Sea Products Import & Export Processing Joint-Stock Company

127. Thanh Doan Seafood Import Export Trading Joint-Stock Company

128. The Light Seafood Company Limited

129. Thien Phu Export Seafood

130. Thinh Hung Co., Ltd.

131. Thinh Phu Aquatic Products Trading Co., Ltd.

132. Thuan Thien Producing Trading Ltd. Co.

133. TPP Co. Ltd.

134. Trang Corporation (Vietnam)

135. Trung Son Seafood Processing Joint Stock Company

136. VAFCO

137. Van Duc Food Company Limited

138. Viet Asia Foods Company Limited

139. Viet Phu Foods and Fish Corp.

140. Viet Shrimp Corporation

141. Vietrosco

142. VIFAFOOD

143. Vinh Hoan Corp.

144. Vinh Phat Food Joint Stock Company

145. VIPAFOOD

146. XNK Thinh Phat Processing Company

[FR Doc. 2026-03511 Filed 2-20-26; 8:45 am]

BILLING CODE 3510-DS-P